DEPARTMENT OF COMMERCE

Bureau of the Census

[Docket Number 000913261-0261-01]

Change in Report Series From Print Publication to Internet Access

AGENCY: Bureau of the Census, Department of Commerce.

ACTION: Notice of publication program change.

SUMMARY: The Bureau of the Census (Census Bureau) will cease printed publication of the “Monthly Product Announcement” (MPA) with the December 2000 edition. The publication's information and additional data will be available at <www.census.gov> and as a free Internet subscription.

EFFECTIVE DATE: December 31, 2000.

FOR FURTHER INFORMATION CONTACT: Les Solomon, Marketing Services Office, Customer Services Center, Census Bureau, Washington, DC 20233, telephone: 301-457-1224.

SUPPLEMENTARY INFORMATION: The MPA lists all Census Bureau publications and data files for a 30-day period. It includes product ordering information and order forms. The MPA does not describe every data product, but usually does discuss one or two new ones in each issue.

The Census Bureau has decided to provide product information to the customer on a more timely basis. The new format will give the customer product information daily and allow the customer to purchase products immediately. We believe that changing to Internet access will not significantly affect the MPA's users. We will, however, address the needs of customers adversely affected by this change. Customers may request a paper copy that lists the Census Bureau's monthly releases by contacting the Customer Services Center at 301-457-4100.

Dated: October 11, 2000.
Kenneth Prewitt,
Director, Bureau of the Census.

[FR Doc. 00-26641 Filed 10-16-00; 8:45 am]

BILLING CODE 3510-01-P